DEPARTMENT OF THE INTERIOR

Fish and Wildlife Service

[FWS-R1-R-2012-N250; 1265-0000-10137-S3]

Sheldon National Wildlife Refuge Humboldt and Washoe Counties, NV, and Lake County, OR; Record of Decision for Final Environmental Impact Statement

AGENCY: Fish and Wildlife Service, Interior.

ACTION: Notice of availability.

SUMMARY: We, the U.S. Fish and Wildlife Service (Service), announce the availability of the record of decision (ROD) for the final environmental impact statement (EIS) for the Sheldon National Wildlife Refuge (Refuge). We completed a thorough analysis of the environmental, social, and economic considerations and presented it in our Final Comprehensive Conservation Plan (CCP) and EIS, which we released to the public on August 24, 2012.

DATES: The Regional Director, Pacific Region, U.S. Fish and Wildlife Service, signed the ROD on September 27, 2012.

ADDRESSES: You may view or obtain copies of our final CCP and ROD by any of the following methods:

Agency Web site: Download a copy of the document(s) at http://www.fws.gov/pacific/planning/main/docs/NV/docssheldon.htm.

Email: Sheldon-Hart@fws.gov. Include “Sheldon Refuge ROD” in the subject line of the message.

Mail: Sheldon-Hart Mountain National Wildlife Refuge Complex, P.O. Box 111, Lakeview, OR 97630.

Fax: (541) 947-4414.

In-person viewing: Copies of the final CCP/EIS and ROD may be viewed at the Sheldon-Hart Mountain National Wildlife Refuge Complex, 20995 Rabbit Hill Road, Lakeview, Oregon.

Local Libraries: The final documents are also available for review at the libraries listed under SUPPLEMENTARY INFORMATION.

FOR FURTHER INFORMATION CONTACT: Aaron Collins, (541) 947-3315 ext. 223.

SUPPLEMENTARY INFORMATION:

Introduction

With this notice, we complete the CCP planning process for the Refuge. We started this process with a Federal Register notice (73 FR 27003; May 12, 2008). We released the draft CCP/EIS to the public, announcing and requesting comments in a notice of availability in the Federal Register (76 FR 55937; September 9, 2011). We announced the availability of the final CCP/EIS in the Federal Register (77 FR 51556) on August 24, 2012.

The Refuge encompasses 575,000 acres of sagebrush-steppe habitat located in a remote area of northwest Nevada and southeast Oregon. The Refuge resides in the Great Basin, and was established in 1931 for the conservation and protection of the once-imperiled American pronghorn. Sheldon Refuge (along with the Hart Mountain National Antelope Refuge) now conserves habitat for a number of native, rare, and imperiled species of fish, wildlife, and plants that depend upon the sagebrush-steppe ecosystem.

In accordance with National Environmental Policy Act (NEPA) (40 CFR 1506.6(b)) requirements, this notice announces the availability of the ROD for the Refuge's final CCP/EIS. We completed a thorough analysis of the environmental, social, and economic considerations, which we included in the final CCP/EIS, and evaluated three management alternatives for the Refuge. The ROD documents our selection of Alternative 2, the preferred alternative, in the final CCP/EIS. The CCP will guide us in managing and administering the Refuge for the next 15 years. Alternative 2, as we described in the final CCP/EIS and ROD, is the foundation for the CCP.

Background

The National Wildlife Refuge System Administration Act of 1966, as amended by the National Wildlife Refuge System Improvement Act of 1997 (together referred to as the Refuge Administration Act), 16 U.S.C. 668dd-668ee, requires us to develop a CCP for each refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Refuge Administration Act.

CCP Alternatives and Selected Alternatives

We identified several issues in our draft CCP/EIS. To address these, we developed and evaluated the following Refuge management alternatives.

Alternative 1 (No Action Alternative)

Under Alternative 1, the no-action alternative, we would assume no change from current management; this alternative is considered the base from which to compare the other two alternatives. We would continue to focus our management activities on maintaining relatively stable populations of approximately 800 feral horses and 90 feral burros on Refuge lands. Fish populations in Big Spring Reservoir would be maintained through continued stocking of sterile rainbow trout. Our management of Refuge habitats would continue to include the use of prescribed fire and mechanical treatments to achieve habitat management objectives.

Current public uses including hunting, fishing, guiding, research, rock collecting, wildlife observation, photography, environmental education, and interpretation would continue. Opportunities to expand public uses or reduce ongoing resource impacts from public uses would be limited. Designated campgrounds and roads would be maintained at their current locations. We would continue to protect the natural primitive character and other resource values of the Refuge's 341,500 acres recommended for wilderness designation in 1974, and provide opportunities for solitude and primitive recreation. Inventory, monitoring, and cultural and historic resources protection would continue to occur on the Refuge.

Alternative 2 (Preferred Alternative)

Under Alternative 2, our preferred alternative, current fish, wildlife, habitat, and public use management would continue, with the following key enhancements. Native habitat conditions would improve, by removing all feral horses and burros from the Refuge within 5 years. Populations of trout species indigenous to the region—Lahontan cutthroat trout, Alvord cutthroat trout, or redband trout—would be maintained through restocking if necessary, replacing nonnative rainbow trout in Big Spring Reservoir and Virgin Creek. Control of noxious weeds and other invasive plants would increase, including weed control along road corridors. Western juniper would be removed where it is encroaching on sagebrush-steppe habitats. Degraded habitats would be rehabilitated and restored, using management techniques such as seeding, erosion control structures, and recontouring. Abandoned livestock water developments would be removed, and spring, playa, wet meadow, and stream habitats would be restored to more natural conditions where beneficial to wildlife.

Recreation opportunities would improve by relocating and enlarging the visitor contact station, improving campground facilities, developing an accessible interpretive trail, creating a self-guided auto tour route, and improving signage of vehicle routes. We would reopen existing routes, following revisions to proposed Refuge wilderness area boundaries. Maintenance of improved gravel roads would occur more frequently. We would relocate up to nine campgrounds, and realign road segments to reduce erosion and impacts to sensitive riparian areas and cultural resources. Seasonal road closures would be implemented as appropriate, to protect sensitive species and habitats.

A larger portion of Sheldon Refuge (424,360 acres) would be recommended for wilderness designation and managed for wilderness character under Alternative 2, encompassing some of the lands identified in Alternative 1, and additional wilderness study areas identified in the 2009 Sheldon Refuge Wilderness Review. We would increase our inventory and protection of historic and cultural resources, and improve historic and cultural resources interpretation.

Alternative 3

Under Alternative 3, changes to current management would include removing all feral horses and burros from the Refuge over a period of 15 years; replacing nonnative trout in Big Spring Reservoir with trout species indigenous to the region, but not maintaining the trout population through restocking; and managing habitats by creating conditions where natural processes such as fire could be allowed more frequently with less dependence on prescribed fire and other intensive management actions. Current public uses would continue; however, some facilities would be consolidated and some uses would be curtailed. Vehicle access to the Refuge would be reduced under Alternative 3 due to the closure of two roads and road maintenance limited to main routes, resulting in fewer miles of primitive routes open to the public.

The area managed for wilderness character would include 236,791 acres, which would provide less long-term protection and preservation of wilderness values than the other alternatives. In addition, Alternative 3 would provide the least amount of protection and preservation of historic resources, compared to the other alternatives.

Selected Alternative

After considering the comments we received, we selected Alternative 2, our preferred alternative, for implementation on the Refuge. Alternative 2 would result in the greatest improvements to native habitat conditions throughout the Refuge, would best meet the Service's policies and directives, is compatible with the Refuge's purposes, and would maintain balance among the Refuge's varied management needs and programs.

Public Availability of Documents

In addition to the methods in ADDRESSES, you can view the CCP at the following libraries.

Lake County Public Library, 513 Center St., Lakeview, OR.

Humboldt County Public Library, 85 East Fifth St., Winnemucca, NV.

Washoe County Public Library, 301 South Center St., Reno, NV

Dated: April 4, 2013.
Richard R. Hannan,
Acting Regional Director, Pacific Region, Portland, Oregon.

[FR Doc. 2013-08740 Filed 4-11-13; 8:45 am]

BILLING CODE 4310-55-P